DEPARTMENT OF AGRICULTURE

Food and Nutrition Service

Agency Information Collection Activities: Proposed Collection; Comment Request—Child and Adult Care Food Program Improper Payments Meal Claims Assessment

AGENCY: Food and Nutrition Service (FNS), USDA.

ACTION: Notice.

SUMMARY: In accordance with the Paperwork Reduction Act of 1995, the Food and Nutrition Service (FNS) invites the general public and other public agencies to comment on this proposed information collection. This is a new information collection that is designed to conduct a feasibility test of a parent-recall interview method, on a national basis, to assess the accuracy of meal claims submitted for reimbursement by family day care home providers for meals served to children who attend the Child and Adult Care Food Program (CACFP) day care homes. The assessment is tasked with developing nationally representative improper payment estimates and rates (percentage) of improper payments (in total and by meal type) due to sponsor reimbursement of invalid meal claims submitted by family day care homes (FDCHs) during FY 2011.

DATES: Written comments on this notice must be received on or before May 10, 2011.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to: Steve Carlson, Food and Nutrition Service, U.S. Department of Agriculture, 3101 Park Center Drive, Room 1014B, Alexandria, VA 22302. Comments may also be submitted via fax to the attention of Steve Carlson at 703-305-2576 or via e-mail to Steve.Carlson@FNS.USDA.GOV. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 1014, Alexandria, Virginia 22302. All responses to this notice will be summarized and included in the request for OMB approval. All comments will also become a matter of public record.

FOR FURTHER INFORMATION CONTACT: Requests for additional information or copies of this information collection should be directed to Fred Lesnett at 703-605-0811.

SUPPLEMENTARY INFORMATION: Title: Child and Adult Care Food Program Improper Payments Meal Claims Assessment

OMB Number: Not Yet Assigned.

Expiration Date: Not yet determined.

Type of Request: New collection of information.

Abstract: The Improper Payments Information Act of 2002 (Act) (Pub. L. 107-300) requires the Department of Agriculture (USDA) to identify and reduce significant improper over- and under-payments in various programs, including the Child and Adult Care Food Program (CACFP). Therefore, the Food and Nutrition Service (FNS), on behalf of the Secretary of Agriculture, is conducting a feasibility evaluation of the parent-recall data collection methodology for validating the number and type of meals claimed for reimbursement by family day care homes (FDCHs) in the CACFP. The feasibility evaluation is scheduled to collect data covering the time period of September 2010 through August 2011. Data collection is to be conducted in sixteen States to evaluate whether a parent-recall data collection methodology under evaluation can:

• Validate the meal reimbursement claims submitted by FDCHs for the number of children who are CACFP eligible and present in the FDCHs during the time period(s) for which the meals/snacks were claimed.

• Generate the data required for developing an estimate of improper payments, based on the meals claimed for reimbursement by FDCHs, that meet the requirements of the Improper Payments Information Act of 2002.

• Be implemented nationwide in an efficient and cost effective method.

A feasibility evaluation will be conducted of the parent-recall data collection methodology in validating meal claims submitted for reimbursement by FDCH providers. Observations conducted on-site in the homes of FDCH providers will be used in the feasibility evaluation. The methodology compares meal reimbursement claims submitted by FDCHs to their sponsors and data collected through each of the following two data collection methodologies:

• Recollections of parents/guardians on their children's attendance at the FDCHs during the days and times of the claims.

• Observations made during on site visits to FDCHs during scheduled meal times.

Based on the findings from the feasibility evaluation, FNS will determine the reliability of using parent-recall information in evaluating meal claims submitted by FDCH providers. If determined to be reliable, the parent-recall method of data collection shall be tested at a national level, and FNS will evaluate the feasibility of implementing it nationwide to validate the meals claimed for reimbursement.

Affected Public: 1,024 Individual/Households; 16 State, Local & Tribal Government and Business-for-profit (64 CACFP Sponsors and 256 FDCH providers).

Respondent type identified: Parent/guardian of each of the sampled children attending a sample of FDCHs will be contacted by telephone. Request for child enrollment, sponsor agreement and meal claim information will be requested of the sampled CACFP sponsors and providers. In addition, observations will be conducted in the homes of the FDCH providers.

Estimated Number of Respondents: The estimated number of respondents included in the survey of parents is 1,024. Sixty-four sponsors in 16 States and 256 FDCH providers will be sampled and requested to provide supporting program information.

Estimated Number of Responses per Respondent: The number of responses per set of parents/guardians for a sampled child attending a FDCH is one. The number of responses per State, sponsor and FDCH provider is one.

Estimated Time per Response: The estimated average time to respond to the parent/guardian survey is 10.2 minutes (.17/Hour). The estimated average times for a State, sponsor and FDCH provider to respond are 45 minutes (.75/Hour), 390 minutes (6.50/Hour), and 75 minutes (1.25/Hour) respectively. Non-responses or attempted interviews are estimated to take 6 minutes (0.10/hour).

Respondent | Estimated number of respondents | Responses annually per respondent | Total annual responses | Estimated average number of hours per response | Estimated total annual hours of response burden
SFA Directors
States:
Completed interviews | 16 | 1.00 | 16 | 0.7500 | 12.00000
Attempted interviews | 0 | 1.00 | 0 | 0.1000 | .00000
Sponsors:
Completed interviews | 64 | 1.00 | 64 | 6.5000 | 416.00000
Attempted interviews | 5 | 1.00 | 5 | 0.1000 | 0.50000
FDCH Provider
Completed interviews | 256 | 1.00 | 256 | 1.25 | 320.00000
Attempted interviews | 13 | 1.00 | 13 | 0.1000 | 1.30000
Parents:
Completed interviews | 1,024 | 1.00 | 1,024 | 0.1700 | 174.08000
Attempted interviews | 102 | 1.00 | 102 | 0.1000 | 10.20000
Total Responding burden | 1,480 |  | 1,480 |  | 934.08000

Estimated Total Annual Burden on Respondents: 934.08000 hours.

Dated: March 4, 2011.
Julia Paradis,
Administrator.

[FR Doc. 2011-5620 Filed 3-10-11; 8:45 am]

BILLING CODE 3410-30-P